ENVIRONMENTAL PROTECTION AGENCY

[EPA-HQ-OECA-2019-0204; FRL-9996-86-OECA]

Enhancing Effective Partnerships Between the EPA and the States in Civil Enforcement and Compliance Assurance Work

AGENCY: Environmental Protection Agency (EPA).

ACTION: Notice of availability.

SUMMARY: The Environmental Protection Agency (EPA) Office of Enforcement and Compliance Assurance (OECA) is issuing a final policy on Enhancing Effective Partnerships Between the EPA and the States in Civil Enforcement and Compliance Assurance Work. The final policy is available for review at https://www.epa.gov/sites/production/files/2019-07/documents/memoenhancingeffectivepartnerships.pdf.

FOR FURTHER INFORMATION CONTACT: Kathleen H. Johnson, Senior Policy Advisor, Mail Code: 2261A, Environmental Protection Agency, 1200 Pennsylvania Ave. NW, Washington, DC 20460; telephone number: (202) 564-5401; fax number: (202) 501-3842; email address: johnson.kathleen@epa.gov.

SUPPLEMENTARY INFORMATION: In January 2018, OECA issued an Interim Guidance document to help move the Agency toward a more collaborative partnership between the EPA and states. After more than a year of implementing the Interim Guidance, states and EPA regions gained valuable experience in enhancing planning and communication on compliance work in Federal environmental programs that states are authorized, delegated, or approved to implement. OECA incorporated this experience in drafting a revised policy. On May 13, 2019, OECA solicited public input on the revised policy through a Federal Register notice (84 FR 20882, May 13, 2019) for a thirty-day comment period.

This final policy incorporates additional feedback collected through the public notice and sets out expectations and procedures for enhancing effective partnerships in civil enforcement and compliance assurance work between the EPA and authorized states. Although this policy is focused on the EPA's work with states that are approved to implement Federal programs, the EPA will also strive to follow these planning and communication practices when working with federally-recognized Indian tribes, territories, and local governments that have received approval to implement Federal programs. This is an Agency planning document and would not impose any legally binding requirements on the EPA or any outside parties.

Dated: July 11, 2019.
Susan Parker Bodine,
Assistant Administrator, Office of Enforcement and Compliance Assurance.

[FR Doc. 2019-15309 Filed 7-18-19; 8:45 am]

BILLING CODE 6560-50-P